ENVIRONMENTAL PROTECTION AGENCY

EPA-HQ-OPPT-2006-0808; FRL-8098-3

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from August 28, 2006 to September 8, 2006, consists of the PMNs pending or expired, and the notices of commencement to manufacture a new chemical that the Agency has received under TSCA section 5 during this time period.

DATES: Comments identified by the specific PMN number or TME number, must be received on or before November 13, 2006.

ADDRESSES: Submit your comments, identified by docket identification (ID) no. EPA-HQ-OPPT-2006-0808, by one of the following methods.

• http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO, EPA East Bldg., Rm. 6428, 1201 Constitution Ave., NW., Washington, DC. Attention: Docket ID number EPA-HQ-OPPT-2006-0767. The DCO is open from 8 a.m. to 4 p.m., Monday through Friday, excluding legal holidays. The telephone number for the DCO is (202) 564-8930. Such deliveries are only accepted during the Docket's normal hours of operation, and special arrangements should be made for deliveries of boxed information.

• Instructions: Direct your comments to docket ID number EPA-HQ-OPPT-2006-0808. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov Web site is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPPT Docket, EPA Docket Center (EPA/DC). The EPA suffered structural damage due to flooding in June 2006. Although the EPA/DC is continuing operations, there will be temporary changes to the EPA/DC during the clean-up. The EPA/DC Public Reading Room, which was temporarily closed due to flooding, has been relocated in the EPA Headquarters Library, Infoterra Room (Room Number 3334) in the EPA West Building, located at 1301 Constitution Ave., NW., Washington, DC. The EPA/DC Public Reading Room is open from 8:30 a.m. to 4:30 p.m., Monday through Friday, excluding legal holidays. The telephone number for the Public Reading Room is (202) 566-1744, and the telephone number for the OPPT Docket is (202) 566-0280. EPA visitors are required to show photographic identification and sign the EPA visitor log. Visitors to the EPA/DC Public Reading Room location will be provided with an EPA/DC badge that must be visible at all times while in the EPA Building and returned to the guard upon departure. In addition, security personnel will escort visitors to and from the new EPA/DC Public Reading Room location. Up-to-date information about the EPA/DC is on the EPA Web site at http://www.epa.gov/epahome/dockets.htm.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from August 28, 2006, to September 8, 2006, consists of the PMNs pending or expired, and the notices of commencement to manufacture a new chemical that the Agency has received under TSCA section 5 during this time period.

III. Receipt and Status Report for PMNs

This status report identifies the PMNs pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 32 Premanufacture Notices Received From: 08/28/06 to 09/08/06
Case No. | Received Date | Projected Notice End Date | Manufacturer/Importer | Use | Chemical
P-06-0765 | 08/25/06 | 11/22/06 | Chemical Supply Chain Specialists | (S) Used as an antioxidant in the spandex and textile industry | (G) Substituted hydroxyl amine
P-06-0766 | 08/28/06 | 11/25/06 | CBI | (S) Fluorescent brightener for use in cellulosic paper applications | (G) Sodium, bis{(substituted)-(sulfonatocarbocycleamino)-triazine-yl]amino}-sulfonatostilbene
P-06-0767 | 08/28/06 | 11/25/06 | The Dow Chemical Company | (G) Intermediate | (G) Polymer of fatty acids methyl esters hydroformylation products, hydrogenated, with alkoxylated glycerine
P-06-0768 | 08/28/06 | 11/25/06 | The Dow Chemical Company | (G) Intermediate | (G) Polymer of fatty acids methyl esters hydroformylation products, hydrogenated, with alkoxylated glycerine
P-06-0769 | 08/28/06 | 11/25/06 | The Dow Chemical Company | (G) Intermediate | (G) Polymer of fatty acids methyl esters hydroformylation products, hydrogenated, with alkoxylated glycerine
P-06-0770 | 08/28/06 | 11/25/06 | The Dow Chemical Company | (G) Intermediate | (G) Polymer of fatty acids methyl esters hydroformylation products, hydrogenated, with alkoxylated glycerine
P-06-0771 | 08/28/06 | 11/25/06 | The Dow Chemical Company | (S) Chemical intermediate | (G) Fatty acids, methyl esters, hydroformylation products
P-06-0772 | 08/28/06 | 11/25/06 | The Dow Chemical Company | (S) Chemical intermediate | (G) Fatty acids, methyl esters, hydroformylation products
P-06-0773 | 08/28/06 | 11/25/06 | The Dow Chemical Company | (S) Chemical intermediate | (G) Fatty acids, methyl esters, hydroformylation products
P-06-0774 | 08/28/06 | 11/25/06 | The Dow Chemical Company | (S) Chemical intermediate | (G) Fatty acids, methyl esters, hydroformylation products
P-06-0775 | 08/28/06 | 11/25/06 | The Dow Chemical Company | (G) Intermediate | (G) Fatty acids methyl esters hydroformylation products, hydrogenated
P-06-0776 | 08/28/06 | 11/25/06 | The Dow Chemical Company | (G) Intermediate | (G) Fatty acids methyl esters hydroformylation products, hydrogenated
P-06-0777 | 08/28/06 | 11/25/06 | The Dow Chemical Company | (G) Intermediate | (G) Fatty acids methyl esters hydroformylation products, hydrogenated
P-06-0778 | 08/28/06 | 11/25/06 | The Dow Chemical Company | (G) Intermediate | (G) Fatty acids methyl esters hydroformylation products, hydrogenated
P-06-0779 | 08/28/06 | 11/25/06 | CBI | (G) Ink additive for open, non-dispersive use | (G) Substituted cyanoguanidine polymer
P-06-0780 | 08/28/06 | 11/25/06 | CBI | (G) Ink additive for open, non-dispersive use | (G) Substituted polyamine
P-06-0781 | 08/28/06 | 11/25/06 | CBI | (G) Industrial solvent | (G) Substituted disbasic ester
P-06-0782 | 08/29/06 | 11/26/06 | CBI | (S) Electrical conductor in organic electronic devices | (G) Perfluorinated polysulfonic acid complexed with an organic conjugated polymer
P-06-0783 | 08/30/06 | 11/27/06 | DIC International (USA) LLC | (G) Polymer additive | (G) Boron-modified mixed carboxylic acids, cobalt salts
P-06-0784 | 09/05/06 | 12/03/06 | Eastman Chemical Company | (S) Plasticizer | (S) 1,4-benzenedicarboxylic acid, dibutyl ester
P-06-0785 | 09/05/06 | 12/03/06 | R. T. Vanderbilt Company, Inc. | (S) Antioxidant for lubricants | (S) Molybdenum bis(di-C11-14 branched and linear carbamodithioato) di-u-oxodioxo-di-,sulfurized
P-06-0786 | 09/07/06 | 12/05/06 | CBI | (S) Reactive diluent in ultra violet formulations | (G) Alkoxylated pentaerythritol acrylate
P-06-0787 | 09/06/06 | 12/04/06 | CBI | (G) Corrosion inhibitor, emulsifier | (G) Modified tall-oil
P-06-0788 | 09/06/06 | 12/04/06 | CBI | (G) Corrosion inhibitor, emulsifier | (G) Modified tall-oil fatty acids
P-06-0789 | 09/07/06 | 12/05/06 | International Flavors and Frances, Inc. | (S) Raw material for use in Frances for soaps, detergents, cleaners and other household products | (S) 2h-indeno[4,5-b] furan, decahydro-2,2,6,6,7,8,8-heptamethyl Indeno[4,3a-b] furan, decahydro-2,2,7,7,8,9,9-heptamethyl-
P-06-0790 | 09/07/06 | 12/05/06 | CBI | (G) Additive for release coatings. | (G) Siloxanes and silicones, di-alkyl, alkyl 2-[(1-oxo-2-propenyl)oxy]alkoxy
P-06-0791 | 09/07/06 | 12/05/06 | CBI | (G) Additive, open, non-dispersive use | (G) Polyamide
P-06-0792 | 09/07/06 | 12/05/06 | CBI | (G) Additive, open, non-dispersive use | (G) Polyether urethane block copolymer
P-06-0793 | 09/07/06 | 12/05/06 | Huntsman International LLC | (S) Pesticide dispersant/solvent | (S) morpholine 4-C6-12 acyl derivates
P-06-0794 | 09/07/06 | 12/05/06 | CBC America Corp. | (S) Sealant component | (S) Hexanedioic acid, polymer with 1,3-bis(isocyanatomethyl)benzene, 2,2-dimethyl-1,3-propanediol, 1,6-hexanediol, .alpha.-hydro-.omega.-hydroxypoly[oxy(methyl-1,2-ethanediyl)], 3-methyl-1,5-pentanediol and .alpha.,.alpha.′,.alpha.′′-1,2,3-propanetriyltris[.omega.-hydroxypoly[oxy(methyl-1,2-ethanediyl)]], 2-(1-methylethyl)-3-oxazolidineethanol-blocked
P-06-0801 | 09/08/06 | 12/06/06 | CBI | (G) Polymerization surfactant | (G) Fluoropolyether derivative
P-06-0802 | 09/08/06 | 12/06/06 | CBI | (G) Surfactant for polymerization | (G) Fluoropolyether derivative

In Table II of this unit, EPA provides the following information (to the extent that such information is not claimed as CBI) on the Notices of Commencement to manufacture received:

II. 16 Notices of Commencement From: 08/28/06 to 09/08/06
Case No. | Received Date | Commencement Notice End Date | Chemical
P-02-0774 | 08/28/06 | 07/27/06 | (G) Glycenidis, castor-oil-mono-hydrogenated acetates
P-04-0543 | 08/29/06 | 08/17/06 | (S) 2-cyclopenten-1-one, 3-(3z)-3-hexenyl-
P-04-0890 | 08/29/06 | 08/10/06 | (S) Dodecanedioic acid, polymer with butyl 2-methyl-2-propenoate, hexanedioic acid, 1,6-hexanediol, alpha-hydro-omega-hydroxypoly[oxy(methyl-1,2-ethanediyl)], 2-hydroxyethyl 2-methyl-2-propenate, 1,1-methylenebix [4isocyanatobenzene], methyl 2-methyl-2-propenoate and 2-methyl-2-propenoic acid
P-05-0576 | 08/28/06 | 08/03/06 | (S) Silane, trimethoxyphenyl-, hydrolysis products with silica
P-05-0577 | 08/28/06 | 08/03/06 | (S) Silane, trimethoxypropyl-, hydrolysis products with silica
P-05-0490 | 06/08/06 | 05/16/06 | (S) Poly[oxy(methyl-1,2-ethanediyl)], .alpha.-[[[(dimethoxymethylsilyl)methyl]amino]carbonyl]-.omega.-[[[[(dimethoxymethylsilyl)methyl]amino]carbonyl]oxy]-
P-05-0652 | 09/06/06 | 08/23/06 | (G) Cyclohexane, 5-isocyanato-1-(isocyanatomethyl)-1,3,3-trimethyl-, polymers with hydroxy-terminated unsaturated hydrocarbon chain, 2-hydroxyethyl acrylate-blocked
P-05-0801 | 08/28/06 | 08/11/06 | (G) Polymer of vegetable oils, aliphatic diols, aliphatic polyols, and aromatic acids.
P-06-0373 | 08/29/06 | 08/02/06 | (G) Polyether polyurethane
P-06-0388 | 09/05/06 | 08/03/06 | (G) Perfluoroalkylethylmethacrylate copolymer
P-06-0390 | 09/05/06 | 08/03/06 | (G) Perfluoroalkyl ethyl methacrylate copolymer
P-06-0404 | 08/25/06 | 07/19/06 | (G) Terpolymer pibsa
P-06-0417 | 09/05/06 | 08/14/06 | (G) Amine neutralized phosphoric acid ester
P-06-0517 | 08/30/06 | 08/08/06 | (S) Neodymium, tris[bis(2-ethylhexyl)phosphato-.kappa.o′′,-.kappa.o′′′]]-
P-06-0530 | 08/30/06 | 08/22/06 | (S) 2,5-furandione, polymer with 2-methyl-1-propene, amide imide
P-98-0068 | 09/06/06 | 08/30/06 | (S) 1-hexadecanol, manufacturer of, distn. lights

List of Subjects

Environmental protection, Chemicals, Premanufacturer notices.

Dated: October 2, 2006.
Eyvone Petty-Callier,
Acting Director, Information Management Division, Office of Pollution Prevention and Toxics.

[FR Doc. E6-16909 Filed 10-12-06; 8:45 am]

BILLING CODE 6560-50-S